DEPARTMENT OF ENERGY

Federal Energy Regulatory Commission

[P-2692-032]

Duke Power; Notice of Intent To Prepare an Environmental Assessment and Notice of Scoping Meetings and Site Visits and Soliciting Scoping Comments

October 29, 2004.

Take notice that the following hydroelectric application has been filed with the Commission and is available for public inspection:

a. Type of Application: New major license.

b. Project No.: 2692-032.

c. Date filed: February 20, 2004.

d. Applicant: Duke Power.

e. Name of Project: Nantahala Hydroelectric Project.

f. Location: On the Nantahala River and its tributaries, in Macon and Clay Counties, North Carolina. There are 41 acres of United States Forest Service managed land (Nantahala National Forest) within the Nantahala Project boundary.

g. Filed Pursuant to: Federal Power Act, 16 U.S.C. 791(a)-825(r).

h. Applicant Contact: John C. Wishon, Nantahala Area Relicensing Project Manager, Duke Power, 301 NP&L Loop, Franklin, NC 28734, (828) 369-4604, jcwishon@duke-energy.com.

i. FERC Contact: Carolyn Holsopple, (202) 502-6407 or carolyn.holsopple@ferc.gov.

j. Deadline for filing scoping comments: January 10, 2005.

All documents (original and eight copies) should be filed with: Magalie R. Salas, Secretary, Federal Energy Regulatory Commission, 888 First Street, NE., Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. This application is not ready for environmental analysis at this time.

l. The existing Nantahala Project operates in a peaking mode and consists of the following features: (1) A 1,042-foot-long, 250-foot-high earth and rockfill dam; (2) a spillway for the dam located at the east abutment; (3) a 1,605-acre reservoir, with a normal reservoir elevation of 3,012.2 feet National Geodetic Vertical Datum and a storage capacity of 38,336 acre-feet; (4) a reinforced concrete powerhouse containing one generating unit having an installed capacity of 42 megawatts (MW); (5) two stream diversions (Dicks Creek and Whiteoak Creek) that provide additional flow into the project; and (6) appurtenant facilities.

m. Copies of the application are available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, 1-202-502-8659. Copies are also available for inspection and reproduction at the address in item h above.

You may also register online at http://www.ferc.gov/esuscribenow.htm to be notified via e-mail of new filings and issuances related to these or other pending projects. For assistance, contact FERC Online Support.

n. Scoping Process: The Commission intends to prepare a single, combined Environmental Assessment (EA) for the proposed project and the Franklin Hydroelectric Project (P-2692-032) and Mission Hydroelectric Project (P-2692-032), both filed in July 2003 and scoped in February 2004, in accordance with the National Environmental Policy Act. The EA will consider both site-specific and cumulative environmental impacts and reasonable alternatives to the proposed action.

Site Visit: Duke Power and the Commission staff will conduct a project site visit on December 7, 2004. We will meet at the Nantahala Power Plant. Site visitors will be responsible for their own transportation. Anyone with questions regarding the site visit should contact Mr. John C. Wishon of Duke Power at (828) 369-4604. The time and location of this site visit is as follows:

Nantahala Site Visit

Date: Tuesday, December 7, 2004.

Time: 9 a.m.-12 p.m. (e.s.t.)

Place: Nantahala Power Plant.

Address: 27656 Wayah Road; Topton, NC 28781.

Scoping Meetings: Commission staff will conduct two public scoping meetings in the project area to solicit comments and viewpoints the public may wish to offer concerning project effects associated with the Nantahala Project. An afternoon meeting will focus on resource agency concerns, and an evening meeting will focus on input from the public. All interested individuals, organizations, Indian tribes, and agencies are invited to attend one or both of the meetings, and to assist the staff in identifying the scope of the environmental issues that should be analyzed in the EA. The times and locations of these meetings are as follows:

Nantahala Agency Scoping Meeting

Date: Tuesday December 7, 2004.

Time: 2 p.m.-4 p.m. (e.s.t.)

Place: Southwestern Community College (Old Almond School).

Address: 60 Almond School Road; Bryson City, NC 28713.

Nantahala Public Scoping Meeting

Date: Tuesday December 7, 2004.

Time: 6 p.m.-9 p.m. (e.s.t.).

Place: Southwestern Community College (Old Almond School).

Address: 60 Almond School Road; Bryson City, NC 28713.

Copies of the Scoping Document (SD1) outlining the subject areas to be addressed in the EA are being distributed to the parties on the Commission's mailing list. Copies of the SD1 will be available at the scoping meetings or may be viewed on the Web at http://www.ferc.gov using the “eLibrary” link (see item (m) above). These meetings are posted on the Commission's calendar located on the Internet at http://www.ferc.gov/EventCalendar/EventsList.aspx along with other related information.

Objectives: At the scoping meetings, staff will: (1) Summarize the environmental issues tentatively identified for analysis in the EA; (2) solicit from the meeting participants all available information, especially empirical data, on the resources at issue; (3) encourage statements from experts and participants on issues that should be analyzed in the EA, including viewpoints in opposition to, or in support of, the staff's preliminary views; (4) determine the resource issues to be addressed in the EA; and (5) identify those issues that do not require a detailed analysis.

Procedures: The meetings will be recorded by a stenographer and become part of the formal record of the Commission proceeding on the project.

Individuals, organizations, agencies, and Indian tribes with environmental expertise and concerns are encouraged to attend the meetings and to assist Commission staff in defining and clarifying the issues to be addressed in the EA.

Magalie R. Salas,
Secretary.

[FR Doc. E4-3067 Filed 11-5-04; 8:45 am]

BILLING CODE 6717-01-P